DEPARTMENT OF ENERGY

Federal Energy Regulatory Commission

Notice of Application for Non-Project Use of Project Lands and Waters and Soliciting Comments, Motions To Intervene, and Protests

June 19, 2006.

Take notice that the following hydroelectric application has been filed with the Commission and is available for public inspection.

a. Type of Application: Non-Project Use of Project Lands and Waters.

b. Project No.: 271-094.

c. Date filed: May 26, 2006.

d. Applicant: Entergy Arkansas, Inc.

e. Name of Project: Carpenter & Remmel Dams.

f. Location: Lake Hamilton on the Quachita River, Garland and Hot Springs Counties, Arkansas.

g. Filed Pursuant to: Federal Power Act, 16 U.S.C. 791(a)-825(r).

h. Applicant Contact: Mr. W. Henry Jones, Manager Hydro Operations, Entergy Fossil Operations, Lake Catherine/Hydro/Lynch, 141 West County Line Road, Malvern, AR 72104, Telephone (501) 844-2148.

i. FERC Contact: John K. Novak, Telephone (202) 502-6076, e-mail john.novak@ferc.gov.

j. Deadline for filing comments and or motions: July 17, 2006.

k. Description of Proposal: Entergy, Arkansas, Inc. is requesting Commission approval to authorize the City of Hot Springs (City) to increase its water withdrawal to 30 million gallons per day (MGD) from Lake Hamilton for municipal use. Currently the City is authorized to withdraw 20 MGD from Lake Hamilton. Under the current proposal the City would be allowed to withdraw up to 30 MGD in a single day, not to exceed an average of 20 MGD within a rolling 3-month period. This proposal would require no new construction or alteration of the existing water withdrawal facilities.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (p-271) to access the document. You may also register online at http://ferc.gov/docs-filing/esubscription.asp to be notified via e-mail of new filings and issuances related to this or other pending projects. For assistance, call 1-866-208-3676 or e-mail FERCOnlineSupport@ferc.gov; for TTY, call (202) 502-8659. A copy is also available for inspection and reproduction at the address in item (h) above.

m. Individuals desiring to be included on the Commission's mailing list should so indicate by writing to the Secretary of the Commission.

n. Comments, Protest, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in capital letters the title “COMMENTS”, RECOMMENDATIONS FOR TERMS AND CONDITIONS”, “PROTEST”, or “MOTION TO INTERVENE”, as applicable, and the Project Number of the particular application to which the filing refers (P-271-094). All documents (original and eight copies) should be filed with: Magalie R. Salas, Secretary, Federal Energy Regulatory Commission, 888 First Street, NE., Washington, DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-10126 Filed 6-27-06; 8:45 am]

BILLING CODE 6717-01-P